DEPARTMENT OF LABOR

Office of Labor-Management Standards

Agency Information Collection Activities; Submission for OMB Review; Comment Request; Notice of Employee Rights Under National Labor Relations Act Complaint Process

ACTION: Notice; request for comments.

AGENCY: Office of Labor-Management Standards, Labor.

SUMMARY: In compliance with the Paperwork Reduction Act of 1995 (PRA), the DOL is soliciting public comments regarding the proposed extension of this Office of Labor-Management Standards (OLMS)-sponsored information collection for the authority to continue the information collection request (ICR) titled, “Notice of Employee Rights under National Labor Relations Act Complaint Process,” currently approved under OMB Control Number 1245-0004.

DATES: Consideration will be given to all written comments received by May 31, 2022.

ADDRESSES: A copy of this ICR with applicable supporting documentation, including a description of the likely respondents, proposed frequency of response, and estimated total burden, may be obtained free by contacting Karen Torre at (202) 693-0123 (this is not a toll-free number), or (800) 877-8339 (TTY/TDD).

Electronic submission: You may submit comments and attachments electronically at olms-public@dol.gov, identified by OMB Control Number 1245-0004.

Comments are invited on: (1) Whether the collection of information is necessary for the proper performance of the functions of the Department, including whether the information will have practical utility; (2) if the information will be processed and used in a timely manner; (3) the accuracy of the agency's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: Karen Torre, Chief of the Division of Interpretations and Regulations, Office of Labor-Management Standards, U.S. Department of Labor, 200 Constitution Avenue NW, Room N-5609, Washington, DC 20210, by telephone at (202) 693-0123 (this is not a toll-free number), (800) 877-8339 (TTY/TDD), or by email at olms-public@dol.gov.

SUPPLEMENTARY INFORMATION: President Barack Obama signed Executive Order 13496 (E.O. 13496) on January 30, 2009, requiring certain Government contractors and subcontractors to post notices informing their employees of their rights as employees under Federal labor laws. The Order also provides the text of contractual provisions that Federal Government contracting departments and agencies must include in every Government contract, except for collective bargaining agreements and contracts for purchases under the Simplified Acquisition Threshold. OLMS administers the enforcement provisions of Executive Order 13496, while the compliance evaluation and investigatory provisions are handled by the Department's Office of Federal Contract Compliance Programs (OFCCP), pursuant to the Order's implementing regulatory provisions (29 CFR part 471). Complaints can be filed with both agencies.

The Department seeks extension of the current approval to collect this information. An extension is necessary because if this information collection is not conducted, E.O. 13496 could not be enforced through the complaint procedure.

E.O. 13496 advances the Administration's goal of promoting economy and efficiency of Federal government procurement by ensuring that workers employed in the private sector as a result of Federal government contracts are informed of their rights to engage in union activity and collective bargaining. Knowledge of such basic statutory rights promotes stable labor-management relations, thus reducing costs to the Federal government.

The contractual provisions require contractors and subcontractors to post a notice, created by the Secretary of Labor, informing employees of their rights under the National Labor Relations Act. The notice also provides a statement of the policy of the United States to encourage collective bargaining, as well as a list of activities that are illegal under the Act. The notice concludes with a general description of the remedies to which employees may be entitled if these rights have been violated and contact information for further information about those rights and remedies, as well as enforcement procedures.

The clause also requires contractors to include the same clause in their nonexempt subcontracts and purchase orders, and describes generally the sanctions, penalties, and remedies that may be imposed if the contractor fails to satisfy its obligations under the Order and the clause.

The regulatory provisions implementing E.O. 13496 (29 CFR part 471) include the language of the required notices, and they explain posting and contractual requirements, the complaint process, the investigatory process, and sanctions, penalties, and remedies that may be imposed if the contractor or subcontractor fails to comply with its obligations under the Order. Specifically, 29 CFR part 471.11(c) sets forth the procedures that the Department must use when accepting written complaints alleging that a contractor doing business with the Federal government has failed to post the notice required by the Executive Order.

The Department continues to estimate a total of 10 respondents with an equal amount of responses. Since the ICR was last approved in 2019, the Department has received 1 complaint. The Department maintains the estimate of 10 complaints for purposes of this renewal request. The Department continues to estimate that it will take an employee 1.28 hours per complaint, for a total of 12.8, rounded to 13 hours.

Additionally, employees will incur costs of $0.62 per complaint in capital/start-up costs ($0.58 for standard-sized, rectangular envelopes postage in January 2022 ¹ + $0.03 for an envelope + $0.01 for paper) for a total cost of $6.20. (Although employees will submit many if not all complaints via email, the Department assumes, conservatively, that it will receive all via mail.) The total cost for the estimated 10 complaints is therefore $6.20. There are no ongoing operation/maintenance costs associated with this information collection.

¹ See: https://www.usps.com/business/prices.htm.

Comments submitted in response to this notice will be summarized and/or included in the request for Office of Management and Budget approval of the information collection request; they will also become a matter of public record.

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

DOL seeks PRA authorization for this information collection for three (3) years. OMB authorization for an ICR cannot be for more than three (3) years without renewal. The DOL notes that information collection requirements submitted to the OMB for existing ICRs receive a month-to-month extension while they undergo review.

Agency: DOL-OLMS.

Type of Review: Extension.

Title of Collection: Notice of Employee Rights under National Labor Relations Act Complaint Process.

OMB Control Number: 1245-0004.

Affected Public: Employees of Federal Contractors and Subcontractors.

Total Estimated Number of Respondents: 10.

Frequency: On occasion.

Total Estimated Number of Responses: 10.

Estimated Average Time per Response: 1.28 hours.

Total Estimated Annual Time Burden: 13 hours.

Total Estimated Annual Other Costs Burden: $6.20.

(Authority: 44 U.S.C. 3506(c)(2)(A))

Dated: March 24, 2022.
Karen Torre,
Chief of the Division of Interpretations and Regulations.

[FR Doc. 2022-06716 Filed 3-29-22; 8:45 am]

BILLING CODE 4510-86-P